DEPARTMENT OF AGRICULTURE

Natural Resources Conservation Service

Sandy Urban Fish Pond/Park Project, Salt Lake County, UT

AGENCY: Natural Resources Conservation Service (NRCS) in Utah, U.S. Department of Agriculture.

ACTION: Notice of a Finding of No Significant Impact.

SUMMARY: Pursuant to section 102(2)(c) of the National Environmental Policy Act of 1969; the Council on Environmental Quality Regulations (40 CFR part 1500); and the Natural Resources Conservation Service Guidelines (7 CFR part 650); the Natural Resources Conservation Service, U.S. Department of Agriculture, gives notice that an environmental impact statement is not being prepared for Sandy Urban Fish Pond/Park Project, Salt Lake County, UT.

FOR FURTHER INFORMATION CONTACT: M. Ron Davidson, Acting State Conservationist, Natural Resources Conservation Service, Wallace F. Bennett Federal Building, 125 South State Street, Room 4402, Salt Lake City, Utah 84138-1100; telephone number (801) 524-4550.

SUPPLEMENTARY INFORMATION: The environmental assessment of this federally assisted action indicates that the project will not cause significant local, regional, or national impacts on the environment. As a result of these findings, M. Ron Davidson, Acting State Conservationist, has determined that the preparation and review of an environmental impact statement is not needed for this project.

Sandy Urban Fish Pond/Park Project

Notice of a Finding of No Significant Impact

During Fiscal Year 2007, Congress appropriated funds through a Congressional Earmark to NRCS to provide technical and financial assistance to Sandy City Parks and Recreation for the Sandy Urban Fish Pond/Park Project. An Environmental Assessment (EA) was prepared in order to make a reasoned and informed decision in selecting which alternative to implement and also to determine if the proposed action is a major federal action that would significantly affect the quality of the human environment. The purpose for constructing an urban fish pond and park is to provide an additional recreational as well as an educational element to Sandy City. The Notice of a Finding of No Significant Impact (FONSI) has been forwarded to the Environmental Protection Agency and to various Federal, State and local agencies and interested parties. A limited number of copies of the FONSI and the EA are available to fill single copy requests at the above address. Basic data developed during the environmental assessment are on file and may be reviewed by contacting Ron Davidson. No administrative action on implementation of the proposal will be taken until 30 days after the date of this publication in the Federal Register.

Dated: October 4, 2007.
M. Ron Davidson,
Acting State Conservationist, Natural Resources Conservation Service, Utah.

[FR Doc. E7-20198 Filed 10-12-07; 8:45 am]

BILLING CODE 3410-16-P